FEDERAL MARITIME COMMISSION

[Docket No. 22-33]

CCMA, LLC, Complainant v. Mediterranean Shipping Company S.A. and Mediterranean Shipping Company (USA) Inc., Respondent; Notice of Filing of Complaint and Assignment

Notice is given that a complaint has been filed with the Federal Maritime Commission (Commission) by CCMA, LLC., hereinafter “Complainant,” against Mediterranean Shipping Company S.A. and Mediterranean Shipping Company (USA) Inc. (hereinafter “Respondent.”) Complainant states that it is organized under the laws of the State of Delaware. Complainant identifies the Respondent as an ocean common carrier incorporated in New York with its principal place of business located in Switzerland conducting business in the United States through Mediterranean Shipping Company (USA) Inc., a company located in New York, New York.

Complainant alleges that Respondent violated 46 U.S.C. 41102(c), regarding its practices and the billing and assessment of charges on the shipments of the Complainant's container cargo, including demurrage, detention, and dwell charges. An answer to the complaint is due to be filed with the Commission within twenty-five (25) days after the date of service. The full text of the complaint can be found in the Commission's Electronic Reading Room at https://www2.fmc.gov/readingroom/proceeding/22-33/.

This proceeding has been assigned to Office of Administrative Law Judges. The initial decision of the presiding officer in this proceeding shall be issued by December 5, 2023, and the final decision of the Commission shall be issued by June 19, 2024.

Served: December 5, 2022.
William Cody,
Secretary.

[FR Doc. 2022-26750 Filed 12-8-22; 8:45 am]

BILLING CODE 6730-02-P